DEPARTMENT OF AGRICULTURE

Rural Housing Service

[Docket No. RHS-24-NONE-0015]

Notice of Request for Revision of a Currently Approved Information Collection

AGENCY: Rural Housing Service.

ACTION: Notice and request for comments.

SUMMARY: In accordance with the Paperwork Reduction Act of 1995, this notice invites comments on the Planning and Performing Construction and Other Development information collection package and announces the Rural Housing Service (RHS or the Agency) intention to request a revision for a currently approved information collection from the Office of Management and Budget (OMB).

DATES: Comments on this notice must be received by July 1, 2024.

FOR FURTHER INFORMATION CONTACT: Contact Adyam Negasi, Innovation Center, Regulations Management Division, U.S. Department of Agriculture, 1400 Independence Ave. SW, Washington, DC 20250; Tel: 202-221-9298; Email: Adyam.Negasi@usda.gov.

SUPPLEMENTARY INFORMATION: The Office of Management and Budget's regulation (5 CFR 1320) implementing provisions of the Paperwork Reduction Act of 1995 (Pub. L. 104-13) requires that interested members of the public and affected agencies have an opportunity to comment on information collection and recordkeeping activities (see 5 CFR 1320.8(d)). This notice identifies an information collection that the Agency is submitting to OMB for revision.

Comments are invited on (a) whether the proposed collection of information is necessary for the proper performance of the functions of the agency, including whether the information will have practical utility; (b) the accuracy of the agency's estimate of burden including the validity of the methodology and assumption used; (c) ways to enhance the quality, utility, and clarity of the information to be collected; and (d) ways to minimize the burden of the collection of information on those who are to respond, including the use of appropriate automated, electronic, mechanical, or other technological collection techniques on other forms and information technology.

Comments may be sent by the Federal eRulemaking Portal: Go to https://www.regulations.gov and, in the “Search” box, type in the Docket No. RHS-24-NONE-0015. A link to the Notice will appear. You may submit a comment here by selecting the “Comment” button or you can access the “Docket” tab, select the “Notice,” and go to the “Browse & Comment on Documents” tab. Here you may view comments that have been submitted as well as submit a comment. To submit a comment, select the “Comment” button, complete the required information, and select the “Submit Comment” button at the bottom. Information on using Regulations.gov, including instructions for accessing documents, submitting comments, and viewing the docket after the close of the comment period, is available through the site's “FAQ” link at the bottom.

Title: 7 CFR 1924-A, Planning and Performing Construction and other Development.

OMB Number: 0575-0042.

Expiration Date of Approval: 08/30/2024.

Type of Request: Revision of a currently approved information collection.

Abstract: RHS offers a supervised credit program to build modest housing and essential community facilities in rural areas. The information collection under OMB Number 0575-0042 enables RHS to effectively administer the policies, methods, and responsibilities needed to demonstrate compliance with applicable acts for planning and performing development work for these facilities.

Estimate of Burden: Public reporting burden for this collection of information is estimated to average .32 hours per response.

Respondents: Individuals or households, farms, business or other for-profit, non-profit institutions, and small businesses or organizations.

Estimated Number of Respondents: 189,639.

Estimated Number of Responses per Respondent: 1.81.

Estimated Number of Responses: 343,109.

Estimated Total Annual Burden on Respondents: 108,713 hours.

Copies of this information collection can be obtained from Adyam Negasi, Rural Development Innovation Center, Regulations Management Division, at 202-221-9298. All responses to this notice will be summarized and included in the request for OMB approval. All comments will also become a matter of public record.

Cathy Glover,
Acting Administrator, Rural Housing Service.

[FR Doc. 2024-09315 Filed 4-30-24; 8:45 am]

BILLING CODE 3410-XV-P